DEPARTMENT OF JUSTICE

Office of Justice Programs

[OJP (NIJ) Docket No. 1615]

Review of Gun Safety Technologies

AGENCY: National Institute of Justice, JPO, DOJ.

ACTION: Notice.

SUMMARY: Following the President's Plan to reduce gun violence released on January 16, 2013, the U.S. Department of Justice, Office of Justice Programs, National Institute of Justice (NIJ) is conducting a review of existing and emerging gun safety technologies and plans to issue a report on the availability and use of those technologies. NIJ seeks input from all interested stakeholders to help inform its technology assessment and market research of existing and emerging gun safety technologies that would be of interest to the law enforcement and criminal justice communities and others with an interest in gun safety. Representative stakeholders include, but are not limited to, law enforcement, gun safety subject matter experts, firearms manufacturers, firearms experts, manufacturing engineers, biometrics specialists, radio frequency identification (RFID) engineers, microelectronics experts, or others with relevant training and experience. Those individuals wishing to provide relevant comments or information are directed to the following Web site: https://www.justnet.org/gun_safety_technology/. Relevant comments or information may also be emailed to the following address: gunsafetytechnology@usdoj.gov.

DATES: Relevant comments or information must be received by 5 p.m. Eastern Time on April 8, 2013.

FOR FURTHER INFORMATION CONTACT: National Institute of Justice, by telephone at (202) 307-2942 [Note: This is not a toll-free telephone number].

Gregory K. Ridgeway,
Acting Director, National Institute of Justice.

[FR Doc. 2013-03884 Filed 2-19-13; 8:45 am]

BILLING CODE 4410-18-P